DEPARTMENT OF COMMERCE

National Oceanic and Atmospheric Administration

RIN 0648-XA336

New England Fishery Management Council; Public Meeting

AGENCY: National Marine Fisheries Service (NMFS), National Oceanic and Atmospheric Administration (NOAA), Commerce.

ACTION: Notice of a public meeting.

SUMMARY: The New England Fishery Management Council's (Council) Groundfish Committee will meet to consider actions affecting New England fisheries in the exclusive economic zone (EEZ).

DATES: The meeting will be held on Monday, April 18, 2011 at 9 a.m.

ADDRESSES: The meeting will be held at the Holiday Inn, 31 Hampshire Street, Mansfield, MA 02048; telephone: (508) 339-2200; fax: (508) 339-1040.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

1. The Groundfish Oversight Committee will review draft Framework Adjustment 46 to the Northeast Multispecies Fishery Management plan (FW 46). FW 46 will consider adjustments to the haddock catch cap for the herring fishery. The Committee may choose preferred alternatives for this action that will be recommended to the Council.

2. The Committee will continue planning for a workshop to be held this year that will review the first year of groundfish sector operations.

3. The Committee will discuss advantages and disadvantages of allowing trading allocations of stocks managed under the US/Canada Resource Sharing Understanding.

4. Amendment 17 to the Northeast Multispecies FMP is in preparation. This amendment will authorize NOAA-funded, state-operated permit banks. Subject to the availability of the draft amendment, the Committee will provide an opportunity for public comment and may develop a Committee recommendation for the Council's consideration.

5. The Committee may further discuss concerns over recent cod catches by recreational fishermen in southern New England, and will receive a brief update on the development of the MRIP recreation catch monitoring program.

6. Other business may be discussed.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: March 25, 2011.
Tracey L. Thompson,
Acting Director, Office of Sustainable Fisheries, National Marine Fisheries Service.

[FR Doc. 2011-7480 Filed 3-29-11; 8:45 am]

BILLING CODE 3510-22-P